Title 3—

The President

Executive Order 14124 of July 17, 2024

White House Initiative on Advancing Educational Equity, Excellence, and Economic Opportunity Through Hispanic-Serving Institutions

By the authority vested in me as President by the Constitution and the laws of the United States of America, and in order to advance equity in economic and educational opportunities, strengthen the capacity of Hispanic-Serving Institutions (HSIs) to provide a high-quality education, increase opportunities for these institutions to participate in and benefit from Federal programs, and ensure that HSIs can continue to be engines of educational opportunity and economic mobility, it is hereby ordered as follows:

Section 1. Policy. Hispanic-Serving Institutions have a history of expanding educational opportunities for generations of Hispanic and Latino students. As defined in section 502(a)(5) of the Higher Education Act of 1965 (20 U.S.C. 1101a(a)(5)), HSIs are institutions of higher education that have an enrollment of at least 25 percent Hispanic undergraduate full-time-equivalent students and satisfy other criteria, including with respect to enrollment of needy students and expenditures per full-time-equivalent undergraduate student.

Today, more than 500 HSIs, located in 27 States, the District of Columbia, and Puerto Rico, serve more than 4.7 million students annually. Hispanic-Serving Institutions vary in size; support a range of academic interests; and serve urban, rural, and suburban communities. Over half of Hispanic and Latino postsecondary students in America attend an HSI, and nearly 40 percent of those students attend a 2-year HSI. Hispanic-Serving Institutions serve a significant number of students from low-income backgrounds. Students enrolled at HSIs account for approximately 30 percent of all Pell Grant recipients, even though these colleges and universities make up only 13 percent of all postsecondary degree-granting institutions. Further, HSIs can play a critical role in fostering diversity in science, technology, engineering, and mathematics fields. Notably, 69 percent of doctoral students in HSIs are enrolled in science- and engineering-related degrees, highlighting the significant role HSIs can play in ensuring a workforce that meets the Nation's evolving needs in technical fields.

As Hispanic and Latino college enrollment has grown to historic levels over the last few decades, so has the number of HSIs, making HSIs' success vital to the strength of the Nation. These institutions are creating and implementing evidence-based practices that lead to Hispanic and Latino student success.

Despite the fact that HSIs represent a large and fast-growing segment of the Nation's colleges and universities, per-student Federal funding at HSIs is 25 percent less than at other degree-granting institutions. Over the last 30 years, the number of HSIs has more than doubled and Hispanic or Latino student enrollment at HSIs has more than tripled. But per-student Federal funding at HSIs remains low compared to degree-granting institutions generally, and many HSIs report having unmet physical and digital infrastructure needs. This scarcity of resources often leaves HSIs at a disadvantage when compared with better-resourced institutions. Students, faculty, and staff at under-resourced HSIs often face challenges in accessing the resources they need to excel.

Despite these funding disparities, research has shown that HSIs tend to do more for Hispanic and Latino student success than non-HSI colleges and universities—and do so with fewer resources. Many HSIs are leaders in promoting economic mobility for Hispanic and Latino students, including by closing college access, completion, and success gaps. Hispanic-Serving Institutions could further improve outcomes for students if they were adequately funded. The Federal Government must strengthen the capacity of HSIs to improve and expand their reach, while recognizing that HSIs face discrete challenges and opportunities that reflect their history and the communities they serve.

As set forth in Executive Order 14045 of September 13, 2021 (White House Initiative on Advancing Educational Equity, Excellence, and Economic Opportunity for Hispanics), the Federal Government must collaborate with Hispanic and Latino communities to ensure their long-term success, including by eliminating barriers to Federal funding and strengthening the capacity of HSIs. This order builds on those policies by establishing the White House Initiative on Advancing Educational Equity, Excellence, and Economic Opportunity Through Hispanic-Serving Institutions and the President's Board of Advisors on Hispanic-Serving Institutions.

It is the policy of my Administration to advance educational equity, excellence, and economic opportunity through strong partnerships with HSIs to ensure that they have access to Federal resources to help current and future generations of students succeed. The Federal Government must collaborate with HSIs and the students, families, and communities they serve to address and overcome barriers that may impede educational attainment and upward economic mobility. Strengthening the capacity of the Nation's HSIs is critical to fulfilling that objective.

Sec. 2. White House Initiative on Advancing Educational Equity, Excellence, and Economic Opportunity Through Hispanic-Serving Institutions. (a) In furtherance of the policy set forth in section 1 of this order, there is established within the Department of Education (Department) the White House Initiative on Advancing Educational Equity, Excellence, and Economic Opportunity Through Hispanic-Serving Institutions (Initiative), of which the Secretary of Education (Secretary) shall serve as Chair. The Secretary shall designate an Executive Director for the Initiative (Executive Director). The Executive Director shall manage the day-to-day operations of the Initiative, in consultation with the Assistant to the President and Director of the White House Office of Public Engagement, as appropriate, and coordinate with senior officials in the Executive Office of the President, who shall lend their expertise and advice to the Initiative.

(b) The Initiative shall advance educational equity, excellence, and economic opportunity through HSIs by focusing on the following goals:

(i) identifying and promoting the availability of Federal programs and resources to enhance HSIs' educational capacity, including with respect to research and infrastructure development, while also breaking down barriers and expanding pathways for HSIs to access such programs and resources;

(ii) identifying best practices for HSIs on developing, implementing, expanding, and sustaining strategies, programs, and initiatives that support the educational success and economic mobility of their students;

(iii) improving the ability of HSIs to align their program offerings with the Nation's economic needs and promote opportunities for careers in critical professions, with an emphasis on increasing the number of students preparing for careers in in-demand and high-wage fields, such as science, technology, engineering, and math, as well as teaching, including bilingual and multilingual education;

(iv) coordinating efforts to improve the fiscal security of HSIs;

(v) developing new relationships, and fostering collaboration, among HSIs and philanthropic organizations, public- and private-sector organizations, elementary and secondary education providers, labor unions, and other entities to improve postsecondary affordability and degree attainment, pathways for students to enroll in HSIs, career preparation at HSIs, and employment opportunities that advance economic mobility for HSI students and graduates;

(vi) strengthening Federal recruitment activities at HSIs to build accessible and equitable pathways into Federal career opportunities for HSI students, faculty, staff, and alumni;

(vii) encouraging HSIs, as institutions that provide students with degrees that lead to upward economic mobility, to participate in Federal policymaking processes;

(viii) encouraging the development of highly qualified, diverse, multilingual, and culturally responsive educators who support and instruct HSI students and contribute to effectively meeting those students' social, emotional, and academic needs; and

(ix) providing data, tools, and analytics to support HSIs in improving educational equity, excellence, and economic opportunity for students.

(c) On an annual basis, the Executive Director, in consultation with the Assistant to the President for Domestic Policy, shall report to the President on the Initiative's progress in carrying out its mission and function under this order.

(d) The Executive Director shall meet regularly with HSI students, leaders, and other representatives to discuss matters related to the Initiative's mission and function.

(e) The Department shall provide funding and administrative support for the Initiative to the extent permitted by law and within existing appropriations. To the extent permitted by law, including the Economy Act (31 U.S.C. 1535), and subject to the availability of appropriations, other executive departments and agencies (agencies) and offices may detail personnel to the Initiative to assist the Department in meeting the objectives of this order.

(f) To advance shared priorities and policies that advance educational equity, excellence, and economic opportunity through HSIs, the Initiative shall collaborate and coordinate with other White House Initiatives, including by sharing best practices on improving student success—including the success of Hispanic and Latino students—between HSIs and other institutions of higher education.

Sec. 3. President's Board of Advisors on Hispanic-Serving Institutions. (a) In furtherance of the policy described in section 1 of this order, there is established within the Department the President's Board of Advisors on Hispanic-Serving Institutions (Board).

(b) The Board shall consist of not more than 21 members, appointed by the President, and may include individuals who serve as representatives of their respective organizations and institutions, such as educational institutions, educational advocacy organizations, labor organizations, research institutions, public and private philanthropic organizations, private-sector organizations, nonprofit organizations, and community-based organizations. Members of the Board should be knowledgeable about the experiences of those who attend, work for, and work to strengthen HSIs.

(c) The President shall designate one member of the Board to serve as its Chair, and may designate another member of the Board to serve as Vice Chair. The Chair, in consultation with the Executive Director of the Initiative, shall convene regular meetings of the Board, determine the Board meeting agenda, and support the work of the Board consistent with this order.

(d) The Department shall provide funding and administrative support for the Board to the extent permitted by law and within existing appropriations. Members of the Board shall serve without compensation, but may be allowed travel expenses, including per diem in lieu of subsistence, as authorized by law for persons serving intermittently in the Government service (5 U.S.C. 5701-5707). Insofar as chapter 10 of title 5, United States Code (commonly known as the Federal Advisory Committee Act), may apply to the Board, any functions of the President under that Act, except that of reporting to the Congress, shall be performed by the Secretary, in accordance with guidelines issued by the Administrator of General Services.

(e) The Board shall provide advice to the President through the Secretary on how to advance the policy goals set forth in section 2(b) of this order, including with respect to:

(i) increasing the visibility of and participation by HSIs in Federal policymaking, including participation in Federal grant review processes;

(ii) providing HSIs, including those that have newly satisfied the criteria for the statutory definition, information about and access to Federal programs and Federal resources;

(iii) supporting the development of institutions on an enrollment trajectory to become an HSI, such as through mentorship with existing HSIs and sharing of best practices on how to improve the fiscal security of HSIs; and

(iv) establishing partnerships between HSIs and philanthropic organizations, public- and private-sector organizations, elementary and secondary education schools and their school districts, and labor unions.

(f) The Board shall periodically report to the President, through the Secretary and after consulting with the Executive Director, on the Board's progress in carrying out its mission and function under this order.

Sec. 4. Administrative Provisions. (a) As used in this order, the terms “Hispanic-Serving Institutions” and “HSIs” mean those institutions that meet the definition of “Hispanic-serving institution” in section 502(a)(5) of the Higher Education Act of 1965 (20 U.S.C. 1101a(a)(5)).

(b) The heads of agencies shall assist and provide information to the Initiative and the Board established in this order, consistent with applicable law, as may be necessary to carry out the functions of the Initiative and the Board.

(c) Each agency shall bear its own expenses of participating in the Initiative established in this order.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

July 17, 2024.

[FR Doc. 2024-16225

Filed 7-19-24; 11:15 am]

Billing code 3395-F4-P